DEPARTMENT OF THE INTERIOR

Fish and Wildlife Service

[FWS-R3-ES-2019-N019; FXES11130300000-190-FF03E00000]

Endangered and Threatened Species; Receipt of Recovery Permit Applications

AGENCY: Fish and Wildlife Service, Interior.

ACTION: Notice of receipt of permit applications; request for comments.

SUMMARY: We, the U.S. Fish and Wildlife Service, have received applications for permits to conduct activities intended to enhance the propagation or survival of endangered or threatened species under the Endangered Species Act. We invite the public and local, State, Tribal, and Federal agencies to comment on these applications. Before issuing any of the requested permits, we will take into consideration any information that we receive during the public comment period.

DATES: We must receive your written comments on or before May 13, 2019.

ADDRESSES: Document availability and comment submission: Submit requests for copies of the applications and related documents, as well as any comments, by one of the following methods. All requests and comments should specify the applicant name(s) and application number(s) (e.g., TEXXXXXX):

• Email: permitsR3ES@fws.gov. Please refer to the respective permit number (e.g., Application No. TEXXXXXX) in the subject line of your email message.

• U.S. Mail: Regional Director, Attn: Carlita Payne, U.S. Fish and Wildlife Service, Ecological Services, 5600 American Blvd. West, Suite 990, Bloomington, MN 55437-1458.

FOR FURTHER INFORMATION CONTACT: Carlita Payne, 612-713-5343 (phone); permitsR3ES@fws.gov (email). Individuals who are hearing or speech impaired may call the Federal Relay Service at 1-800-877-8339 for TTY assistance.

SUPPLEMENTARY INFORMATION:

Background

The Endangered Species Act of 1973, as amended (ESA; 16 U.S.C. 1531 et seq.), prohibits certain activities with endangered and threatened species unless authorized by a Federal permit. The ESA and our implementing regulations in part 17 of title 50 of the Code of Federal Regulations (CFR) provide for the issuance of such permits and require that we invite public comment before issuing permits for activities involving endangered species.

A recovery permit issued by us under section 10(a)(1)(A) of the ESA authorizes the permittee to conduct activities with endangered species for scientific purposes that promote recovery or for enhancement of propagation or survival of the species. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

We invite local, State, and Federal agencies, Tribes, and the public to comment on the following applications.

Application number | Applicant | Species | Location | Activity | Type of take | Permit action
TE03494B | GAI Consultants, Inc., Erlanger, KY | Indiana bat (Myotis sodalis), gray bat (M. grisescens), northern long-eared bat (M. septentrionalis), Ozark big-eared bat (Corynorhinus towsendii ingens), Virginia big-eared bat (C.t. virginianus) | AL, AR, CT, DE, DC, FL, GA, IL, IN, IA, KS, KY, LA, ME, MD, MA, MI, MN, MS, MO, MT, NE, NH, NJ, NY, NC, ND, OH, OK, PA, RI, SC, SD, TN, VT, VA, WV, WI, WY | Conduct presence/absence surveys, document habitat use, conduct population monitoring, evaluate impacts | Capture, handle, mist-net, harp trap, band, radio-tag, release | Renew.
TE206781 | EcoAnalysts, Inc., O'Fallon, MO | Add Candy darter (Etheostoma osburni), diamond darter (Crystallaria cincotta), pallid sturgeon (Scaphirhynchus albus), Alabama moccasinshell (Medionidus acutissimus), inflated heelsplitter (Potamilus inflatus), Louisiana pearlshell (Margaritifera hembeli), ovate clubshell (Pleurobema perovatum), southern clubshell (Pleurobema decisum), Texas hornshell (Popenaias popeii), and yellow lance (Ellipto lanceolata) to existing 58 permitted freshwater mussel species | Add new locations—LA, NM, ND, WY—to existing authorized locations: AR, CO, CT, DE, IL, IN, IA, KS, KY, ME, MD, MA, MI, MN, MO, NE, NH, NJ, NY, OH, OK, PA, RI, SD, TN, TX, VT, VA, WV, WI | Conduct presence/absence surveys, document habitat use, conduct population monitoring, evaluate impacts | Capture, handle, temporarily hold, relocate, release, collect dead specimens | Amend.
TE98111A | State of Ohio Department of Transportation, Columbus, OH | Clubshell (Pleurobema clava), fanshell (Cyprogenia stegaria), northern riffleshell (Epioblasma torulosa rangiana), pink mucket pearlymussel (Lampsilis orbiculata), purple cat's paw pearlymussel (Epioblasma obliquata obliquata), rabbitsfoot (Quadrula cylindrica cylindrica), rayed bean (Villosa fabalis), sheepnose (Plethobascus cyphyus), snuffbox (Epioblasma triquetra), white catspaw pearlymussel (Epioblasma obliquata perobliqua) | OH | Conduct presence/absence surveys, document habitat use, conduct population monitoring, evaluate impacts | Capture, handle, temporarily hold, relocate, release | Renew.
TE06801A | Pittsburgh Wildlife & Environmental, Inc., McDonald, PA | Indiana bat (Myotis sodalis), gray bat (M. grisescens), northern long-eared bat (M. septentrionalis) | AL, AR, FL, GA, IL, IN, IA, KS, KY, MI, MS, MO, NJ, NY, NC, OH, OK, PA, SC, TN, VA, WV, WI | Conduct presence/absence surveys, document habitat use, conduct population monitoring, evaluate impacts | Capture, handle, mist-net, harp trap, radio-tag, band, enter hibernacula, release | Renew.
TE81122C | Three Rivers Park District, Plymouth, MN | Rusty patched bumble bee (Bombus affinis) | MN | Conduct presence/absence surveys, document habitat use, conduct population monitoring, evaluate impacts | Add new activity— radio-tag—to existing authorized activities: capture, handle, hold, release | Amend.
TE24570D | Sean Kline, Stow, OH | Indiana bat (Myotis sodalis), gray bat (M. grisescens), northern long-eared bat (M. septentrionalis), Virginia big-eared bat (Corynorhinus towsendii virginianus) | AL, AR, CT, DE, GA, IL, IN, IA, KY, MD, MA, MI, MS, MO, NJ, NY, NC, OH, OK, PA, TN, VT, VA, WV | Conduct presence/absence surveys, document habitat use, conduct population monitoring, evaluate impacts | Capture, handle, mist-net, radio-tag, release | New.
TE11145C | Lisa Kleinschmidt, Syracuse, NY | Add Indiana bat (Myotis sodalis) to existing permitted species: Gray bat (Myotis grisescens), northern long-eared bat (M. septentrionalis) | AL, AR, CT, DE, FL, GA, IL, IN, IA, KS, KY, MD, MA, MI, MN, MS, MO, NE, NH, NJ, NY, NC, ND, OH, OK, PA, RI, SC, SD, TN, VT, VA, WV, WI | Conduct presence/absence surveys, document habitat use, conduct population monitoring, evaluate impacts | Capture, handle, mist-net, harp trap, band, radio-tag, wing biopsy, release | Amend.
TE02373A | Environmental Solutions & Innovations, Inc., Cincinnati, OH | Add Candy darter (Etheostoma osburni) to existing permitted species: Indiana bat (Myotis sodalis), gray bat (M. grisescens), northern long-eared bat (M. septentrionalis), Ozark big-eared bat (Corynorhinus towsendii ingens), Virginia big-eared bat (C.t. virginianus), Big Sandy crayfish (Cambarus callainus), Guyandotte River crayfish (C. veteranus), amber darter (Percina antesella), blackside dace (Phoxinus cumberlanden-sis), blue shiner (Cyprinella caerulea), Cherokee darter (Etheostoma scotti), Conasauga logperch (Percina jenkinsi), diamond darter (Crystallaria cincotta), Etowah darter (Etheostoma etowahae), Maryland darter (Etheostoma sellare), Ozark cavefish (Amblyopsis rosea), Niangua darter (Etheostoma nianguae), Roanoke logperch (Percina rex), Topeka shiner (Notropis topeka), American burying beetle (Nicrophorus americanus), Karner blue butterfly (Lycaeides melissa samuelis), Mitchell's satyr butterfly (Neonympha mitchellii mitchellii), rusty patched bumble bee (Bombus affinis), eastern massasauga rattlesnake (Sistrurus catenatus), northeastern bulrush (Scirpus ancistrochaetus), running buffalo clover (Trifolium stloniferum), and 35 freshwater mussel species | AL, AR, CT, DE, DC, GA, IL, IN, IA, KS, KY, LA, ME, MD, MA, MI, MN, MS, MO, MT, NE, NH, NJ, NY, NC, ND, OH, OK, PA, RI, SC, SD, TN, VT, VA, WV, WI, WY | Conduct presence/absence surveys, document habitat use, conduct population monitoring, evaluate impacts | Candy darter: Capture, identify, release, relocate. Bats: Capture, handle, mist-net, harp trap, band, radio-tag, enter hibernacula or maternity roost caves, release. Crayfish: Collect, transport, hold in captivity, propagate, relocate, release. Rusty patched bumble bee: Capture, handle, hold, release, salvage. American burying beetle: Live-trap, release. Butterflies, Eastern massasauga rattlesnake and Plants: Visual surveys. Other Fish and Mussels: Capture, identify, release | Amend.
TE28559D | Radford's Run Wind Farm, LLC, Chicago, IL | Indiana bat, (Myotis sodalis), northern long-eared bat (M. septentrionalis) | Macon County, IL | Conduct scientific research on the efficacy of wind turbine bat deterrent technology, population management and monitoring | Harass, kill, salvage | New.
TE28573D | Adam Rusk, Prairie Village, KS | Indiana bat (Myotis sodalis), gray bat (M. grisescens), northern long-eared bat (M. septentrionalis), Ozark big-eared bat (Corynorhinus towsendii ingens), Virginia big-eared bat (C.t. virginianus) | AL, AR, CT, DE, DC, FL, GA, IL, IN, IA, KS, KY, LA, ME, MD, MA, MI, MN, MS, MO, MT, NE, NH, NJ, NY, NC, ND, OH, OK, PA, RI, SC, SD, TN, VT, VA, WV, WI, WY | Conduct presence/absence surveys, document habitat use, conduct population monitoring, evaluate impacts | Capture, handle, mist-net, radio-tag, release | New.

Public Availability of Comments

Written comments we receive become part of the administrative record associated with this action. Before including your address, phone number, email address, or other personal identifying information in your comment, you should be aware that your entire comment—including your personal identifying information—may be made publicly available at any time. While you can request in your comment that we withhold your personal identifying information from public review, we cannot guarantee that we will be able to do so. Moreover, all submissions from organizations or businesses, and from individuals identifying themselves as representatives or officials of organizations or businesses, will be made available for public disclosure in their entirety.

Next Steps

If we decide to issue permits to any of the applicants listed in this notice, we will publish a notice in the Federal Register.

Authority

We publish this notice under section 10(c) of the Endangered Species Act of 1973, as amended (16 U.S.C. 1531 et seq.).

Lori Nordstrom,
Assistant Regional Director, Ecological Services, Midwest Region.

[FR Doc. 2019-07227 Filed 4-11-19; 8:45 am]

BILLING CODE 4333-15-P